DEPARTMENT OF ENERGY

Federal Energy Regulatory Commission

Combined Notice of Filings #1

August 9, 2006.

Take notice that the Commission received the following electric corporate filings:

Docket Numbers: EC06-146-000.

Applicants: Northern States Power Company.

Description: Xcel Energy Services, Inc on behalf of Northern States Power Co requests authorization to consummate a transmission asset exchange transaction with Great River Energy, Union Power Association and Cooperative Power Association.

Filed Date: 8/2/2006.

Accession Number: 20060804-0136.

Comment Date: 5 p.m. eastern time on Wednesday, August 23, 2006.

Docket Numbers: EC06-147-000.

Applicants: Entegra Power Group LLC; Gila River Power, L.P.; Union Power Partners, L.P.; Morgan Stanley & Co. Incorporated; Merrill Lynch, Pierce, Fenner & Smith Incorporated.

Description: Entegra Power Group, LLC et al. submit an application for order granting blanket authorization for certain future transfers & acquisitions of equity interests under Section 203 of the Federal Power Act.

Filed Date: 8/3/2006.

Accession Number: 20060808-0120.

Comment Date: 5 p.m. eastern time on Thursday, August 24, 2006.

Docket Numbers: EC06-148-000.

Applicants: Alliance Energy, New York LLC, Power City Generating, Inc.; Power City Partners, L.P. and RPL Holdings, LLC.

Description: Alliance Energy, New York LLC et al. submit its joint application for sale of a jurisdictional facility under Section 206 of the Federal Power Act.

Filed Date: 8/4/2006.

Accession Number: 20060809-0028.

Comment Date: 5 p.m. eastern time on Friday, August 25, 2006.

Docket Numbers: EC06-149-000.

Applicants: PNM Resources, Inc.; Public Service Company of New Mexico; Texas-New Mexico Power Company; TNP Enterprises, Inc.

Description: PNM Resources, Inc. et al. submit an application for approval of Intra-Corporate Reorganization pursuant to Section 203 of the Federal Power Act.

Filed Date: 8/8/2006.

Accession Number: 20060809-0092.

Comment Date: 5 p.m. eastern time on Tuesday, August 29, 2006.

Docket Numbers: EC06-150-000.

Applicants: Berkshire Power Company, LLC; Berkshire Power Company, LLC .

Description: EIF Berkshire Holdings LLC and Berkshire Power Co LLC submit an application under Section 203 of the Federal Power Act for a disposition of ownership interests.

Filed Date: 8/8/2006.

Accession Number: 20060809-0117.

Comment Date: 5 p.m. eastern time on Tuesday, August 29, 2006.

Take notice that the Commission received the following exempt wholesale generator filings:

Docket Numbers: EG06-69-000.

Applicants: Spanish Fork Wind Park 2, LLC.

Description: Spanish Fork Wind Park 2, LLC submits an application for Determination of Exempt Wholesale Generator Status pursuant to section 32(a)(a) of the PUHCA of 1935, et al.

Filed Date: 8/8/2006.

Accession Number: 20060807-5266.

Comment Date: 5 p.m. eastern time on Tuesday, August 29, 2006.

Take notice that the Commission received the following electric rate filings:

Docket Numbers: ER96-1361-009; ER98-4138-005; ER99-2781-007; ER98-3096-011; ER01-202-004; ER00-1770-010; ER02-453-006; ER04-472-003; ER04-529-003.

Applicants: Atlantic City Electric Company; Potomac Electric Power Company; Delmarva Power & Light Company; Pepco Energy Services, Inc.; Potomac Power Resources, LLC; Conectiv Energy Supply, Inc.; Conectiv Bethlehem, LLC; Fauquier Landfill Gas, LLC; Rolling Hills Landfill Gas, LLC.

Description: Pepco Holdings, Inc et al. submit notification of change in status.

Filed Date: 8/3/2006.

Accession Number: 20060804-0148.

Comment Date: 5 p.m. eastern time on Thursday, August 24, 2006.

Docket Numbers: ER97-2846-010; ER99-2311-007; ER01-2928-009; ER03-1383-005; ER01-1418-006; ER02-1238-007; ER01-1419-006; ER01-1310-007; ER03-398-007.

Applicants: Florida Power Corporation; Carolina Power & Light Company; Progress Ventures, Inc.; DeSoto County Generating Company, LLC; Effingham County Power, LLC; MPC Generating, LLC; Rowan County Power, LLC; Walton County Power, LLC; and Washington County Power, LLC.

Description: Progress Ventures, Inc submits a notice of change in status, effective 1/1/09-12/31/10, in which they will purchase 100 MW and the associated energy from Morgan Stanley Capital Group, Inc.

Filed Date: 8/1/2006.

Accession Number: 20060804-0094.

Comment Date: 5 p.m. eastern time on Tuesday, August 22, 2006.

Docket Numbers: ER00-2885-010: ER06-864-002; ER01-2765-009; ER02-1582-008; ER02-1785-005; ER02-2102-009.

Applicants: Cedar Brakes I, L.L.C.; Bear Energy LP; Cedar Brakes II, L.L.C.; Mohawk River Funding IV, L.L.C.; Thermo Cogeneration Partnership L.P.; Utility Contract Funding, L.L.C.

Description: Bear Energy LP et al. notifies FERC that they have entered into an agreement to provide energy management services in accordance with Order 652 and their market-based rate authorizations.

Filed Date: 8/7/2006.

Accession Number: 20060809-0069.

Comment Date: 5 p.m. eastern time on Monday, August 28, 2006.

Docket Numbers: ER02-2310-005.

Applicants: Crescent Ridge LLC.

Description: Crescent Ridge LLC submits a notice of Non-Material Change in Status as a result of upstream ownership.

Filed Date: 7/31/2006.

Accession Number: 20060731-5056.

Comment Date: 5 p.m. eastern time on Monday, August 21, 2006.

Docket Numbers: ER03-1413-005.

Applicants: Sempra Energy Trading Corp.

Description: Sempra Energy Trading Corp submits its updated market analysis and a revised market-based rate tariff.

Filed Date: 8/1/2006.

Accession Number: 20060804-0097.

Comment Date: 5 p.m. eastern time on Tuesday, August 22, 2006.

Docket Numbers: ER05-487-004.

Applicants: FPL Energy Cowboy Wind, LLC.

Description: FPL Energy Cowboy Wind, LLC submits its notice of change in material facts.

Filed Date: 7/31/2006.

Accession Number: 20060731-5067.

Comment Date: 5 p.m. eastern time on Monday, August 21, 2006.

Docket Numbers: ER05-717-004; ER05-721-004; ER04-374-003; ER99-2341-006; ER06-230-001.

Applicants: Spring Canyon Energy LLC; Judith Gap Energy LLC; Invenergy TN LLC; Hardee Power Partners Limited; Wolverine Creek Energy LLC.

Description: Spring Canyon Energy LLC et al. submit a notice of change in status.

Filed Date: 8/3/2006.

Accession Number: 20060807-0156.

Comment Date: 5 p.m. eastern time on Thursday, August 24, 2006.

Docket Numbers: ER05-1050-003.

Applicants: AmerGen Energy Company LLC.

Description: AmerGen Energy Company submits a refund report in Compliance with Commission's June 28, 2006 Order.

Filed Date: 8/4/2006.

Accession Number: 20060804-5063.

Comment Date: 5 p.m. eastern time on Friday, August 25, 2006.

Docket Numbers: ER06-9-003.

Applicants: FPL Energy Burleigh County Wind, LLC.

Description: FPL Energy Burleigh County Wind, LLC submits a notice of change in material facts.

Filed Date: 7/31/2006.

Accession Number: 20060731-5062.

Comment Date: 5 p.m. eastern time on Monday, August 21, 2006.

Docket Numbers: ER06-199-001.

Applicants: PJM Interconnection, L.L.C.

Description: PJM Interconnection, LLC submits revisions to the PJM Open Access Transmission Tariff in compliance with FERC's 7/7/06 Order.

Filed Date: 8/7/2006.

Accession Number: 20060809-0026.

Comment Date: 5 p.m. eastern time on Monday, August 28, 2006.

Docket Numbers: ER06-729-001.

Applicants: Southwest Power Pool, Inc.

Description: Southwest Power Pool Inc its revised Open Access Transmission Tariff, to be effective 10/1/06 pursuant to Commission's Order issued 5/11/06.

Filed Date: 8/1/2006.

Accession Number: 20060804-0090.

Comment Date: 5 p.m. eastern time on Tuesday, August 22, 2006.

Docket Numbers: ER06-964-001.

Applicants: Acadia Power Partners, LLC.

Description: Acadia Power Partners, LLC submits Substitute First Revised Sheet 3 to its FERC Electric Tariff, Original Volume 1, pursuant to the Commission's 6/30/06 Order.

Filed Date: 7/28/2006.

Accession Number: 20060804-0093.

Comment Date: 5 p.m. eastern time on Friday, August 18, 2006.

Docket Numbers: ER06-1051-002.

Applicants: Northern States Power Company.

Description: Xcel Energy Services Inc on behalf of Northern States Power Co submits supplemental information and responses to FERC's 7/5/06 data request.

Filed Date: 8/4/2006.

Accession Number: 20060807-0159.

Comment Date: 5 p.m. eastern time on Friday, August 25, 2006.

Docket Numbers: ER06-1094-008.

Applicants: Unitil Power Corp.; Fitchburg Gas and Electric Light Company; Unitil Energy Systems, Inc.

Description: Unitil Power Corp et al. supplement the request for waiver filed on 6/1/06 with additional information regarding each of the Unitil Companies.

Filed Date: 7/31/2006.

Accession Number: 20060804-0058.

Comment Date: 5 p.m. eastern time on Monday, August 21, 2006.

Docket Numbers: ER06-1118-002.

Applicants: ECP Energy, LLC.

Description: ECP Energy LLC submits a Second Amended Application for Order Accepting Initial Tariff, Waiving Regulations, & Granting Blanket Approvals, & Request Consideration & Waiver of 60 day Prior Notice Requirement.

Filed Date: 8/2/2006.

Accession Number: 20060804-0145.

Comment Date: 5 p.m. eastern time on Wednesday, August 23, 2006.

Docket Numbers: ER06-1243-001.

Applicants: Liberty Power Holdings LLC.

Description: Liberty Power Holdings LLC submits amendment to the original filing dated 7/11/06 including the petitions for acceptance of initial rate schedule, waivers & blanket authority under ER06-1243.

Filed Date: 8/4/2006.

Accession Number: 20060808-0122.

Comment Date: 5 p.m. eastern time on Friday, August 25, 2006.

Docket Numbers: ER06-1261-001.

Applicants: FPL Energy Mower County, LLC.

Description: FPL Energy Mower County, LLC submits an amendment to its application for market-based rate authority filed on 7/19/06.

Filed Date: 8/4/2006.

Accession Number: 20060807-0152.

Comment Date: 5 p.m. eastern time on Friday, August 25, 2006.

Docket Numbers: ER06-1331-000.

Applicants: CalPeak Power LLC.

Description: Calpeak Power, LLC submits an application for acceptance of its proposed FERC Electric Tariff, Original Volume 1.

Filed Date: 8/2/2006.

Accession Number: 20060804-0095.

Comment Date: 5 p.m. eastern time on Wednesday, August 23, 2006.

Docket Numbers: ER06-1333-000.

Applicants: Southern California Edison Company.

Description: Southern California Edison Co submits its Second Revised Sheet 4 et al. to Service Agreement No. 43, Interconnection Facilities Agreement with the City of Colton, SC.

Filed Date: 8/3/2006.

Accession Number: 20060807-0154.

Comment Date: 5 p.m. eastern time on Thursday, August 24, 2006.

Docket Numbers: ER06-1334-000.

Applicants: Spindle Hill Energy LLC.

Description: Spindle Hill Energy LLC submits an application for market-based rate authorization and related waivers and pre-approvals.

Filed Date: 8/3/2006.

Accession Number: 20060807-0157.

Comment Date: 5 p.m. eastern time on Thursday, August 24, 2006.

Docket Numbers: ER06-1335-000.

Applicants: Participating Transmission Owners Administrative Committee.

Description: New England's Participating Transmission Owners submits its annual informational filing regarding ISO Tariff changes in effect as of 6/1/06.

Filed Date: 7/31/2006.

Accession Number: 20060808-0146.

Comment Date: 5 p.m. eastern time on Monday, August 21, 2006.

Docket Numbers: ER06-1336-000.

Applicants: PJM Interconnection, L.L.C.

Description: PJM Interconnection, LLC submits an unexecuted interconnection service agreement with Indeck-Elwood, LLC and Commonwealth Edison Co.

Filed Date: 8/4/2006.

Accession Number: 20060808-0127.

Comment Date: 5 p.m. eastern time on Friday, August 25, 2006.

Docket Numbers: ER06-1337-000.

Applicants: Southern California Edison Company.

Description: Southern California Edison Co submits First Revised Sheet 2 et al. to its FERC Gas Tariff, First Revised Volume 5 to the Interconnection Facilities Agreement with City of Moreno Valley.

Filed Date: 8/4/2006.

Accession Number: 20060808-0125.

Comment Date: 5 p.m. eastern time on Friday, August 25, 2006.

Docket Numbers: ER06-1338-000.

Applicants: American Electric Power Services Corporation.

Description: American Electric Power Service Corp on behalf of AEP Texas North Co submits two generation interconnection agreements with Airtricity Wild Horse Wind Farm, LLC.

Filed Date: 8/4/2006.

Accession Number: 20060808-0140.

Comment Date: 5 p.m. eastern time on Friday, August 25, 2006.

Docket Numbers: ER06-1339-000.

Applicants: Southern California Edison Company.

Description: Southern California Edison Co submits revised rate sheets to the Interconnection Facilities Agreement with NM Milliken Genco LLC.

Filed Date: 8/4/2006.

Accession Number: 20060808-0124.

Comment Date: 5 p.m. eastern time on Friday, August 25, 2006.

Docket Numbers: ER06-1340-000.

Applicants: ISO New England Inc.

Description: ISO New England Inc submits a correction to its May & June 2006 UCAP Deficiency Auction results.

Filed Date: 8/4/2006.

Accession Number: 20060808-0123.

Comment Date: 5 p.m. eastern time on Friday, August 25, 2006.

Docket Numbers: ER06-1341-000.

Applicants: Midwest Independent Transmission System Operator, Inc.

Description: Midwest Independent Transmission System Operator, Inc.'s submits an Interconnection Agreement with Southern Indiana Gas & Electric dba Vectran Energy Delivery of Indiana, Inc.

Filed Date: 8/7/2006.

Accession Number: 20060808-0141.

Comment Date: 5 p.m. eastern time on Monday, August 28, 2006.

Docket Numbers: ER06-1342-000.

Applicants: Southern Operating Companies.

Description: Alabama Power Co et al. submit an executed interconnection agreement with Southern Power Company, Service Agreement 479.

Filed Date: 8/7/2006.

Accession Number: 20060808-0119.

Comment Date: 5 p.m. eastern time on Monday, August 28, 2006.

Docket Numbers: ER06-1343-000.

Applicants: PJM Interconnection, L.L.C.

Description: PJM Interconnection, LLC submits an executed Wholesale Market Participation Agreement with Masonic Villages of Pennsylvania and PPL Electric Utilities Corp.

Filed Date: 8/4/2006.

Accession Number: 20060809-0027.

Comment Date: 5 p.m. eastern time on Friday, August 25, 2006.

Docket Numbers: ER06-1344-000.

Applicants: Public Service Company of New Mexico.

Description: Public Service Co of New Mexico submits the Fourth Revised Service Agreement for Network Integration Transmission Service Agreement et al. with Tri-State Generation & Transmission Association, Inc.

Filed Date: 8/8/2006.

Accession Number: 20060809-0020.

Comment Date: 5 p.m. eastern time on Tuesday, August 29, 2006.

Docket Numbers: ER06-1345-000.

Applicants: New England Power Company.

Description: New England Power Co submits its Local Service Agreements between NEP and various customers.

Filed Date: 8/8/2006.

Accession Number: 20060809-0099.

Comment Date: 5 p.m. eastern time on Tuesday, August 29, 2006.

Take notice that the Commission received the following public utility holding company filings:

Docket Numbers: PH06-102-000.

Applicants: Sowood Capital Management LP.

Description: Sowood Capital Management, LP submits its petition of exemption from the requirements of the PUHCA of 2005.

Filed Date: 8/2/2006.

Accession Number: 20060807-0158.

Comment Date: 5 p.m. eastern time on Wednesday, August 23, 2006.

Docket Numbers: PH06-103-000.

Applicants: IP Gyrfalcon Company, LLC.

Description: IP Gyrfalcon Company, LLC submits an Exemption Notification of requirements of PUHCA of 2005.

Filed Date: 8/8/2006.

Accession Number: 20060808-5042.

Comment Date: 5 p.m. eastern time on Tuesday, August 29, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-13430 Filed 8-15-06; 8:45 am]

BILLING CODE 6717-01-P